DEPARTMENT OF TRANSPORTATION

Maritime Administration

[Docket No. MARAD-2019-0137]

Request for Comments on the Approval of a new Proposed Information Collection: Capital Construction Fund and Exhibits

AGENCY: Maritime Administration, DOT

ACTION: Notice and request for comments.

SUMMARY: The Maritime Administration (MARAD) invites public comments on our intention to request the Office of Management and Budget (OMB) approval to renew an information collection. The collected information is necessary for MARAD to determine an applicant's eligibility to enter into a CCF Agreement. We are required to publish this notice in the Federal Register by the Paperwork Reduction Act of 1995.

DATES: Comments must be submitted on or before October 28, 2019.

ADDRESSES: You may submit comments [identified by Docket No. MARAD-2019-0028] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Daniel Ladd, 202-366-1859, Maritime Administration, Office of Financial Approvals, U.S. Department of Transportation, 1200 New Jersey Avenue SE, Washington, DC 20590. Telephone: 202-366-2321 or E-MAIL: dan.ladd@marad.dot.gov. Copies of this collection also can be obtained from that office.

SUPPLEMENTARY INFORMATION: Title: Capital Construction Fund and Exhibits.

OMB Control Number: 2133-0027.

Type of Request: Renewal of a previously approved Information Collection.

Abstract: This information collection consists of an application for a Capital Construction Fund (CCF) agreement under 46 U.S.C. Chapter 535 and annual submissions of appropriate schedules and exhibits. The Capital Construction Fund is a tax-deferred ship construction fund that was created to assist owners and operators of U.S.-flag vessels in accumulating the large amount of capital necessary for the modernization and expansion of the U.S. merchant marine. The program encourages construction, reconstruction, or acquisition of vessels through the deferment of Federal income taxes on certain deposits of money or other property placed into a CCF.

Respondents: 143.

Affected Public: U.S. citizens who own or lease one or more eligible vessels and who have a program to provide for the acquisition, construction or reconstruction of a qualified vessel.

Estimated Number of Respondents: 143.

Estimated Number of Responses: 143.

Estimated Hours per Response: 13.5.

Annual Estimated Total Annual Burden Hours: 1931.

Frequency of Response: Annually.

(Authority: The Paperwork Reduction Act of 1995; 44 U.S.C. Chapter 35, as amended; and 49 CFR 1.93.)

* * * * *

Dated: August 22, 2019.
By Order of the Maritime Administrator.
T. Mitchell Hudson, Jr.
Secretary, Maritime Administration.

[FR Doc. 2019-18401 Filed 8-26-19; 8:45 am]

BILLING CODE 4910-81-P